DEPARTMENT OF ENERGY

Federal Energy Regulatory Commission

[Docket No. NJ07-4-000]

South Carolina Public Service Authority; Notice for Petition of Declaratory Order

June 26, 2007.

Take notice that on June 20, 2007, pursuant to section 35.28(e) of the Regulations of the Federal Energy Regulatory Commission (Commission), 18 CFR 35.28(e) and (f) (2006), and Rule 207(a)(2) of the Rules of Practice and Procedure of the Commission, 18 CFR 385.207(a) (2006), South Carolina Public Service Authority (Santee Cooper) filed a petition for declaratory order determining that its open access transmission tariff (OATT) continues to qualify as a “safe harbor” tariff within the meaning of Order Nos. 888 and 890.

Santee Cooper, also requests a waiver of the filing fee applicable to petitions for declaratory orders, pursuant to section 381.108 of the Rules and Regulations, 18 CFR 381.108 (2006) and Order No. 888-A at 30,288-89.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on July 20, 2007.

Kimberly D. Bose,
Secretary.

[FR Doc. E7-12806 Filed 7-2-07; 8:45 am]

BILLING CODE 6717-01-P